DEPARTMENT OF ENERGY

Federal Energy Regulatory Commission

[Docket Nos. CP06-365-001; CP06-366-001; CP06-376-001; CP06-377-001]

Columbia Riverkeeper, Sierra Club, Landowners and Citizens for a Safe Community, RiverVision, Wahkiakum Friends of the River, Friends of Living Oregon Waters, Willapa Hills Audubon Society, Fisherman's Protective Union, Peter Huhtala, and Christian Bock Complainants vs. NorthernStar Energy LLC, Bradwood Landing LLC, Federal Energy Regulatory Commission Decisional Staff Respondents; Notice of Complaint

December 21, 2006.

Take notice that on December 20, 2006, Columbia Riverkeeper, Sierra Club, Landowners and Citizens for a Safe Community, RiverVision, Wahkiakum Friends of the River, Friends of Living Oregon Waters, Willapa Hills Audubon Society, Fisherman's Protective Union, Peter Huhtala, and Christian Bock (hereinafter collectively, Columbia Riverkeeper) filed a complaint against Bradwood Landing LLC (Bradwood) and NorthernStar Energy LLC (NorthernStar) under sections 3 and 7 of the Natural Gas Act, and 18 CFR 385.206, alleging violations of the ex parte contact prohibition of 18 CFR 385.2201(b) in connection with a meeting held in Portland, Oregon on December 14, 2006, relating to the Biological Assessment for Bradwood Landing/NorthernStar project attended by Bradwood, NorthernStar, the Commission staff and others.

Columbia Riverkeeper certifies that copies of the complaint were served on the contacts for Bradwood and NorthernStar.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Comment Date: 5 p.m. Eastern Time on January 9, 2007.

Magalie R. Salas,
Secretary.

[FR Doc. E6-22352 Filed 12-28-06; 8:45 am]

BILLING CODE 6717-01-P